DEPARTMENT OF AGRICULTURE

Animal and Plant Health Inspection Service

[Docket No. APHIS-2006-0194]

Control of Viral Hemorrhagic Septicemia; Public Meetings

AGENCY: Animal and Plant Health Inspection Service, USDA.

ACTION: Notice of public meetings.

SUMMARY: We are advising the public that the Animal and Plant Health Inspection Service's Veterinary Services program will host four public meetings to present current information about the outbreaks of viral hemorrhagic septicemia (VHS) and actions taken to prevent the spread of this fish disease, and to discuss issues concerning possible regulation of VHS by the Agency.

DATES: The meetings will be held in Lakewood, CO, and Memphis, TN, on January 9, 2007, and in Romulus, MI, and Coraopolis, PA, on January 10, 2007. Each meeting will be held from 8:30 a.m. to noon, local time.

ADDRESSES: The meetings will be held at the following locations:

• Lakewood, CO: U.S. Fish & Wildlife Service, 134 Union Boulevard, 1st Floor Conference Room, Lakewood, CO.

• Memphis, TN: The Peabody Memphis Hotel, 149 Union Avenue, Memphis, TN.

• Romulus, MI: Crowne Plaza Hotel, Detroit-Metro Airport, 8000 Merriman Road, Romulus, MI.

• Coraopolis, PA: Pittsburgh Airport Marriott, 777 Aten Road, Coraopolis, PA.

FOR FURTHER INFORMATION CONTACT: Dr. Jill Rolland, Aquaculture Specialist, VS, APHIS, 4700 River Road Unit 46, Riverdale, MD 20737-1231; (301) 734-7727.

SUPPLEMENTARY INFORMATION: Viral hemorrhagic septicemia (VHS) is a highly contagious disease of fresh and saltwater fish. The virus that causes VHS produces clinical signs in susceptible fish including internal hemorrhaging and death, but other species may carry the virus and show no clinical signs. The disease does not pose a risk to people, but it has recently been found to affect a number of free-ranging fish species previously not known to be susceptible, including a number of important baitfish, recreational, and foodfish species.

In response to outbreaks of VHS in the Great Lakes region and the potential impact on aquacultured fish species in the United States, the Animal and Plant Health Inspection Service (APHIS) issued an emergency order on October 24, 2006, prohibiting the importation of certain species of live fish from Ontario and Quebec, Canada, into the United States and the interstate movement of the same species from the eight States bordering the Great Lakes: New York, Pennsylvania, Ohio, Michigan, Indiana, Illinois, Minnesota, and Wisconsin. On November 14, 2006, APHIS modified the October 24, 2006, emergency order to allow the interstate movement of VHS-susceptible species for slaughter or research under certain conditions and to allow the importation of VHS-susceptible species of salmonids from Ontario and Quebec into the United States if the fish meet the requirements specified in the U.S. Fish and Wildlife Service's Title 50 Certification (50 CFR 16.13(a)(3) and 16.13(b)).

Now we are advising the public that APHIS' Veterinary Services program will host four public meetings on VHS. The purpose of the meetings is to present current information about the outbreaks of VHS and actions taken to prevent its spread, and to give interested persons an opportunity to present data and views concerning the possible regulation of VHS by the Agency. The meetings will be held in Lakewood, CO, and Memphis, TN, on January 9, 2007, and in Romulus, MI, and Coraopolis, PA, on January 10, 2007. Each meeting will be held from 8:30 a.m. to noon, local time.

A representative of APHIS will preside at each public meeting. Any interested person may appear and be heard in person, by attorney, or by other representative. Written statements may be submitted and will be made part of the meeting record.

Registration for each meeting will take place 30 minutes prior to the scheduled start of the meeting. Persons who wish to speak at a meeting will be asked to sign in with their name and organization to establish a record for the meeting. We ask that anyone who reads a statement provide two copies to the presiding officer at the meeting.

The presiding officer may limit the time for each presentation so that all interested persons appearing at each meeting have an opportunity to participate. Each meeting may be terminated at any time if all persons desiring to speak and who are present in the meeting room have been heard.

Done in Washington, DC, this 19th day of December 2006.
Elizabeth E. Gaston,
Acting Administrator, Animal and Plant Health Inspection Service.

[FR Doc. E6-21966 Filed 12-21-06; 8:45 am]

BILLING CODE 3410-34-P